DEPARTMENT OF HEALTH AND HUMAN SERVICES

Centers for Medicare & Medicaid Services

[CMS-3333-N]

Medicare Program; Announcement of Requirements and Registration for the MIPS Mobile Challenge

AGENCY: Centers for Medicare & Medicaid Services (CMS), HHS.

ACTION: Notice.

SUMMARY: This notice launches a challenge related to the new Merit-based Incentive Payment System (MIPS) program, which will assist the Centers for Medicare & Medicaid Services (CMS) in accelerating the transition from the traditional fee-for-service payment model to a system that rewards health care providers for giving better care, not just more care. This challenge will address one of the most important aspects of our programs, which is educating and providing outreach to the potential 1.2 million MIPS eligible clinicians.

DATES: Important dates concerning the Challenge include the following:

MIPS Mobile Challenge: To be announced on www.challenge.gov and opened for submissions in https://jira.oncprojectracking.org, April 25, 2016.

Deadline for Phase I Submissions: July 15, 2016.

HHS announces top three-five challenge applicants and launches Phase II. Applicants that did not win Phase I will be permitted to compete for Phase II: July 30, 2016.

Deadline for Phase II Submissions: September 30, 2016.

HHS announces grand prize winner: October 15, 2016 (tentative).

FOR FURTHER INFORMATION CONTACT: Mindy Hangsleben, (410) 786-6954 for general information. Stan Ostrow, (410) 786-7207 for inquiry on Information Systems Group.

SUPPLEMENTARY INFORMATION:

I. Background

The Medicare Access and CHIP Reauthorization Act of 2015 (Pub. L. 114-10, enacted April 16, 2015) (MACRA) requires the Secretary to establish a new Merit-based Incentive Payment System (MIPS) program, which will assist the Centers for Medicare & Medicaid Services (CMS) in accelerating the transition from the traditional fee-for-service payment model to a system that rewards health care providers for value rather than volume of services provided. The MIPS program combines parts of the Physician Quality Reporting System, the Value Modifier (VM or Value-based Payment Modifier), and the Medicare Electronic Health Record (EHR) Incentive Program into one single program that assesses the performance of MIPS eligible clinicians based on four performance categories: (1) Quality, (2) Resource use, (3) Clinical practice improvement activities, and (4) Meaningful use of certified EHR technology. This program has the potential of impacting 1.2 million MIPS clinicians.

One of the most important aspects and challenges of our program is educating and providing outreach to the potential 1.2 million MIPS clinicians. Feedback we have received from our customers/end users is that they want more real-time information and access to assistance so they can successfully report to our programs. Therefore, we are launching a MIPS mobile challenge to find innovative ways of improving communication to educate physicians, support staff, health organization leadership, data vendors, and others impacted parties. Due to the multiple user types and facets of the MIPS program we are looking at utilizing a mobile platform, which could be a mobile site or application to determine how to best keep our customers/end users informed and meet their specific needs. We also want to provide the capability to access assistance to help MIPS clinicians learn and get help with specific areas. This challenge has the potential to make a significant impact as not only are there 1.2 million MIPS clinicians but also millions of people who support the success of these MIPS clinicians. Having key information and access to the right support at the right time reduces burden and provides increased satisfaction for the MIPS clinicians and their supporting entities. The challenge will run in the two phases listed below in this section. Phase I participants can move onto phase II even if their phase I design was not selected. The focus of the two phases are as follows:

• Phase I: Creation of an initial mobile platform that will feature innovative ways of transmitting educational materials or fostering collaboration amongst users to provide meaningful education. This will entail creating wireframes, storyboards, mobile screen mock-ups and initial usability testing focused on the design and user experience. In addition, participants will co-design with users to understand their needs to influence their submission.

• Phase II: Development and functional integration of any features from Phase I, and user experience testing. During this phase, the participants must submit the object and source code, as well as a detailed description showing that the output meets section 508 compliance per the Rehabilitation Act of 1973 (29 U.S.C. 794d), as amended by the Workforce Investment Act of 1998 (Pub. L. 105-220, enacted August 7, 1998) (WIA) including at least instructions on how to install and operate, and system requirements for running the mobile platform. Participants may submit, as part of the submission, additional software documentation, if they believe it provides a more complete description of the mobile platforms.

II. Provisions of the Notice

A. Subject of Challenge Competition: MIPS Mobile Challenge

1. Eligibility Rules for Participating in the Competition

To be eligible to win a prize under this challenge, participants (individual or entity) must comply with each and every rule set forth in this section:

1. Shall register to participate in the competition under the rules promulgated below by the Department of Health and Human Services (HHS).

2. In the case of a private entity, shall be incorporated in and maintain a primary place of business in the United States, and in the case of an individual, whether participating individually or in a group, shall be a citizen or permanent resident of the United States.

3. HHS Employees may participate in the MIPS Mobile Challenge, but may not submit in the scope of their employment and may not pursue an application while in the federal workplace or while on duty.

4. Shall not be an employee of the CMS.

5. Federal grantees may not use federal funds to develop the America COMPETES Reauthorization Act of 2010 (Pub. L. 111-358, enacted January 4, 2011) (COMPETES Act) challenge applications unless consistent with the purpose of their grant award.

6. Federal contractors may not use federal funds from a contract to develop COMPETES Act challenge applications or to fund efforts in support of a COMPETES Act challenge submission.

7. Applicants must agree to provide the federal government an irrevocable, royalty-free, non-exclusive worldwide license in the winning work(s) or component parts thereof, in the event that they are prize winner(s). HHS shall be granted the rights to reproduce, distribute copies to the public, publicly display, create derivative works, and publicly post, link to, and share the winning work(s) or parts thereof.

A submission may be disqualified if, in CMS's sole judgment:

• Fails to function as expressed in the detailed description,

• The detailed description is significantly inaccurate or incomplete, or

• Malware or other security threats are present.

Participants agree that we may conduct testing on the submitted code to determine whether malware or other security threats may be present such that they may damage the equipment or operating environments of the Federal Government or those acting on its behalf.

An individual or entity shall not be deemed ineligible because the individual or entity used federal facilities or consulted with federal employees during a competition if the facilities and employees are made available to all individuals and entities participating in the competition on an equitable basis.

Challenge participants will sign a liability release as part of the contest registration process. The liability release will use the following language:

By participating in this competition, I agree to assume any and all risks and waive claims against the federal government and its related entities, except in the case of willing misconduct, for any injury, death, damage, or loss of property, revenue, or profits, whether direct, indirect, or consequential, arising from my participation in this prize contest, whether the injury, death, damage, or loss arises through negligence or otherwise.

B. Registration Process for Participants

1. Amount of the Prize

The top 3 to 5 winners for phase I of the challenge will be provided a monetary cash prize totaling $10,000 per winner. The Phase II final challenge winner will be provided a monetary cash prize totaling $25,000.

2. How Winners Are Selected

Challenge submissions will be judged by a panel selected by CMS with relevant expertise in current CMS reporting systems. The expert panel of judges, qualified by training and experience, will evaluate the submissions on the criteria identified below in this section. Judges will be fair and impartial, may not have a personal or financial interest in, or be an employee, officer, director, or agent of, any entity that is a registered participant in the competition, and may not have a personal or financial relationship with an individual who is a registered contestant. The panel will provide expert advice on the merits of each submission to CMS officials responsible for final selections for award. Awardees will be notified on or around the dates listed in the “Date” section. Winners will be selected based on the following criteria:

• Phase 1

++ Ease in which a user can navigate Usability and Design;

++ Evidence of design with User feedback;

++ Innovation in Design; and

++ Look and Feel.

• Phase 2

++ Ease in which a user can navigate Usability and Design;

++ Evidence of design with User feedback;

++ Innovation in Design;

++ Functionality/Accuracy; and

++ Look and Feel.

C. Additional Information

Challenge participants will draw from existing information provided on www.cms.gov and collaborate directly with health professionals and/or end users to build their application. The participants will have access to www.cms.gov and to end users. Challenge details and registration are located at www.challenge.gov.

III. Collection of Information Requirements

This document does not impose information collection requirements, that is, reporting, recordkeeping or third-party disclosure requirements. Consequently, there is no need for review by the Office of Management and Budget under the authority of the Paperwork Reduction Act of 1995 (44 U.S.C. 3501 et seq.).

Dated: April 20, 2016.
Andrew M. Slavitt,
Acting Administrator, Centers for Medicare & Medicaid Services.

[FR Doc. 2016-10301 Filed 5-2-16; 8:45 am]

BILLING CODE 4120-01-P